DEPARTMENT OF LABOR

Occupational Safety and Health Administration

[Docket No. OSHA-2016-0001]

National Advisory Committee on Occupational Safety and Health (NACOSH)

AGENCY: Occupational Safety and Health Administration (OSHA), Labor.

ACTION: Announcement of a NACOSH meeting.

SUMMARY: NACOSH will meet June 15, 2016, in Washington, DC. In conjunction with the committee meeting, the NACOSH Injury and Illness Prevention Program Work Group will meet June 14, 2016.

DATES: NACOSH meeting: NACOSH will meet from 9 a.m. to 5 p.m., Wednesday, June 15, 2016.

NACOSH Work Group meeting: The NACOSH Injury and Illness Prevention Program Work Group will meet from 1 p.m. to 5 p.m., Tuesday, June 14.

Comments, requests to speak, speaker presentations, and requests for special accommodations: You must submit (postmark, send, transmit) comments, requests to address NACOSH, speaker presentations, and requests for special accommodations for the NACOSH and NACOSH Work Group meetings by June 3, 2016.

ADDRESSES: NACOSH and NACOSH Work Group meetings: NACOSH and the NACOSH Work Group will meet in Surface Transportation Board Hearing Room 120C, Patriots Plaza I, 395 E. Street SW., Washington, DC 20024.

Submission of comments, requests to speak and speaker presentations: You may submit comments and request to speak at the NACOSH meeting, identified by the docket number for this Federal Register notice (Docket No. OSHA-2016-0001), by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Regular mail, express mail, hand delivery, or messenger/courier service (hard copy): You may submit your materials to the OSHA Docket Office, Docket No. OSHA-2016-0001, Room N-2625, U.S. Department of Labor, 200 Constitution Avenue NW., Washington, DC 20210; telephone (202) 693-2350 (TTY (887) 889-5627). OSHA's Docket Office accepts deliveries (hand deliveries, express mail, and messenger/courier service) during normal business hours, 8:15 a.m. to 4:45 p.m. e.t., weekdays.

Requests for special accommodations: Please submit requests for special accommodations to attend the NACOSH and NACOSH Work Group meetings by email, telephone, or hard copy to Ms. Gretta Jameson, OSHA, Office of Communications, Room N-3647, U.S. Department of Labor, 200 Constitution Avenue NW., Washington, DC 20210; telephone (202) 693-1999 (TTY (887) 889-5627); email jameson.grettah@dol.gov.

Instructions: Your submissions must include the Agency name and the docket number for this Federal Register notice (Docket No. OSHA-2016-0001). Due to security-related procedures, receipt of submissions by regular mail may experience significant delays. Please contact the OSHA Docket Office for information about security procedures for making submissions by hand delivery, express delivery, or messenger/courier service. For additional information about submissions, see the SUPPLEMENTARY INFORMATION section of this notice.

OSHA will post in the NACOSH docket, without change, any comments, requests to speak, and speaker presentations, including any personal information that you provide. Therefore, OSHA cautions interested parties about submitting personal information such as Social Security numbers and birthdates.

FOR FURTHER INFORMATION CONTACT: For press inquiries: Ms. Nancy Cleeland, Acting Director, OSHA Office of Communications, U.S. Department of Labor, Room N-3647, 200 Constitution Avenue NW., Washington, DC 20210; telephone (202) 693-1999 (TTY (877) 889-5627); email cleeland.nancy@dol.gov.

For general information: Ms. Michelle Walker, Director, OSHA Technical Data Center, Directorate of Technical Support and Emergency Management, U.S. Department of Labor, Room N-2625, 200 Constitution Avenue NW., Washington, DC 20210; telephone (202) 693-2350 (TTY (877) 889-5627); email walker.michelle@dol.gov.

SUPPLEMENTARY INFORMATION: NACOSH meeting: NACOSH will meet Wednesday, June 15, 2016, in Washington, DC. Some NACOSH members may attend the meeting by teleconference. NACOSH meetings are open to the public.

NACOSH was established by Section 7(a) of the Occupational Safety and Health Act of 1970 (OSH Act) (29 U.S.C. 651, 656) to advise, consult with and make recommendations to the Secretary of Labor and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a).

The tentative agenda for the NACOSH meeting includes:

• An update from the Assistant Secretary of Labor for Occupational Safety and Health on key OSHA initiatives;

• Remarks from the Director of the National Institute for Occupational Safety and Health;

• Update on OSHA's major regulatory activities;

• Report from the NACOSH Emergency Response Subcommittee; and

• Update on the NACOSH Injury and Illness Prevention Program Work Group meeting.

OSHA transcribes and prepares detailed minutes of NACOSH meetings. OSHA posts the transcripts and minutes in the public docket along with written comments, speaker presentations, and other materials submitted to NACOSH or presented at NACOSH meetings.

NACOSH Work Group meeting: The NACOSH Injury and Illness Prevention Program Work Group will meet Tuesday, June 14, 2016. The meeting is open to the public. The purpose of the meeting is to discuss workplace safety and health issues regarding contractors at multi-employer worksites, including workplace protections and best practices as part of injury and illness prevention programs. There will also be a discussion on efforts to promote the occupational safety and health profession.

Public Participation, Submissions and Access to Public Record

NACOSH and NACOSH Work Group meetings: All NACOSH and NACOSH Work Group meetings are open to the public. Attendees must have valid government-issued photo identification (e.g., driver's license) to enter the building. For additional information about building security measures for attending the NACOSH and NACOSH Work Group meetings, please contact Ms. Jameson (see ADDRESSES section).

Individuals requesting special accommodations to attend the NACOSH and NACOSH Work Group meetings should contact Ms. Jameson.

Submission of comments: You may submit comments using one of the methods listed in the ADDRESSES section. Your submission must include the Agency name and docket number for this Federal Register notice (Docket No. OSHA-2016-0001). OSHA will provide copies of any submissions to the NACOSH members.

Because of security-related procedures, receipt of submissions by regular mail may experience significant delays. For information about security procedures for submitting materials by hand delivery, express mail, and messenger/courier service, please contact the OSHA Docket Office.

Requests to speak and speaker presentations: If you want to address NACOSH at the meeting you must submit a request to speak, as well as any written or electronic presentation, by June 3, 2016, using one of the methods listed in the ADDRESSES section. Your request must state:

• The amount of time requested to speak;

• The interest you represent (e.g., business, organization, affiliation), if any; and

• A brief outline of the presentation.

PowerPoint presentations and other electronic materials must be compatible with PowerPoint 2010 and other Microsoft Office 2010 formats. The NACOSH Chair may grant requests to address NACOSH as time and circumstances permit.

Public docket of NACOSH meetings: OSHA places comments, requests to speak, and speaker presentations, including any personal information you provide, in the NACOSH docket, without change. Those documents also may be available online at http://www.regulations.gov. Therefore, OSHA cautions you about submitting certain personal information such as Social Security numbers and birthdates.

OSHA also places in the NACOSH docket meeting transcripts, meeting minutes, documents presented at the NACOSH meeting, and other documents pertaining to the NACOSH and NACOSH Work Group meetings. These documents may be available online at http://www.regulations.gov.

Access to the public record of NACOSH meetings: To read or download documents in the NACOSH docket, go to Docket No. OSHA-2016-0001 at http://www.regulations.gov. The index for that Web page lists all of the documents in the docket; however, some documents (e.g., copyrighted materials) are not publicly available through that Web page. All documents in the NACOSH docket, including materials not available through http://www.regulations.gov, are available in the OSHA Docket Office. Please contact the OSHA Docket Office for assistance in making submissions to, or obtaining materials from, the NACOSH docket.

Electronic copies of this Federal Register notice are available at http://www.regulations.gov. This notice, as well as news releases and other relevant information, also are available on OSHA's Web page at http://www.osha.gov.

Authority and Signature

David Michaels, Ph.D., MPH, Assistant Secretary of Labor for Occupational Safety and Health, directed the preparation of this notice under the authority granted by 29 U.S.C. 656; 5 U.S.C. App. 2; 29 CFR part 1912a; 41 CFR part 102-3; and Secretary of Labor's Order No. 1-2012 (77 FR 3912 (1/25/2012)).

Signed at Washington, DC, on May 19, 2016.
David Michaels,
Assistant Secretary of Labor for Occupational Safety and Health.

[FR Doc. 2016-12350 Filed 5-24-16; 8:45 am]

BILLING CODE 4510-26-P